DEPARTMENT OF HOMELAND SECURITY

U.S. Customs and Border Protection

Proposed Collection; Comment Request; On-Line Allegation Submission

AGENCY: Customs and Border Protection (CBP), Department of Homeland Security.

ACTION: 60-Day Notice and request for comments; New collection of information.

SUMMARY: As part of its continuing effort to reduce paperwork and respondent burden, CBP invites the general public and other Federal agencies to comment on an information collection requirement concerning the On-Line Allegation Submission. This request for comment is being made pursuant to the Paperwork Reduction Act (Public Law 104-13; 44 U.S.C. 3505(c)(2)).

DATES: Written comments should be received on or before January 8, 2008, to be assured of consideration.

ADDRESSES: Direct all written comments to U.S. Customs and Border Protection, Information Services Group, Room 3.2.C, 1300 Pennsylvania Avenue, NW., Washington, DC 20229.

FOR FURTHER INFORMATION CONTACT: Requests for additional information should be directed to U.S. Customs and Border Protection, Attn.: Tracey Denning, Rm. 3.2.C, 1300 Pennsylvania Avenue, NW., Washington, DC 20229, Tel. (202) 344-1429.

SUPPLEMENTARY INFORMATION: CBP invites the general public and other Federal agencies to comment on proposed and/or continuing information collections pursuant to the Paperwork Reduction Act (Pub. L. 104-13; 44 U.S.C. 3505(c)(2)). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) estimates of capital or start-up costs and costs of operations, maintenance, and purchase of services to provide information. The comments that are submitted will be summarized and included in the CBP request for Office of Management and Budget (OMB) approval. All comments will become a matter of public record. In this document CBP is soliciting comments concerning the following information collection:

Title: On-Line Allegation Submission.

Form Number: None.

Abstract: CBP proposes to develop an On-line Allegation Submission Web site that will provide a means for concerned members of the trade community to confidentially report violations to CBP.

Current Actions: This is being submitted to establish a new information collection.

Type of Review: New information collection.

Affected Public: Businesses, Individuals.

Estimated Number of Respondents: 100.

Estimated Time Per Respondent: 15 minutes.

Estimated Total Annual Burden Hours: 25 hours.

Estimated Total Annualized Cost on the Public: $750.

Dated: November 2, 2007.
Tracey Denning,
Agency Clearance Officer, Information Services Branch.

[FR Doc. E7-21998 Filed 11-8-07; 8:45 am]

BILLING CODE 9111-14-P